DEPARTMENT OF HEALTH AND HUMAN SERVICES

Centers for Disease Control and Prevention

National Center for Chronic Disease Prevention and Health Promotion Conference Support Program

Announcement Type: New.

Funding Opportunity Number: PA 05031.

Catalog of Federal Domestic Assistance Numbers: 93.283, 93.919, 93.938 and 93.945.

Key Dates:

Letter of Intent Deadline:

Cycle A: November 22, 2004

Cycle B: February 3, 2005

Application Deadline:

Cycle A: December 22, 2004

Cycle B: April 6, 2005

Letter of Intent (LOI) and Application deadline dates for cycles in FY 2006, 2007, 2008 and 2009 will be published in the Federal Register each year.

I. Funding Opportunity Description

Authority:

The Centers for Disease Control and Prevention (CDC) program is authorized under section 317(k) (2) (c) and (d) of the Public Health Service Act, [42 U.S.C. 247b (k) (2) (c) and (d)].

Purpose:

The Centers for Disease Control and Prevention (CDC) announce the pending availability of appropriated fiscal year (FY) 2005 funds for National Center for the Chronic Disease Prevention and Health Promotion Conference Support Program. This program addresses the “Healthy People 2010” focus areas of Arthritis, Osteoporosis, and Chronic Back Conditions, Cancer, Diabetes, Educational and Community-Based Programs, Heart Disease and Stroke, Maternal, Infant and Child Health, Vision and Newborn Hearing (specifically newborn screening, evaluation and intervention), Oral Health, Physical Activity and Fitness, Respiratory Diseases, Sexually Transmitted Diseases, and Tobacco Use.

HIV Conferences and HIV subject matter are covered under another program and are not permitted under this announcement.

The purpose of conference support funding is to provide partial support for specific non-Federal conferences in the areas of health promotion and disease prevention information and education programs, and applied research.

Applicants can submit applications for conferences that are not a part of series for a one-year project period or an applicant can submit a proposal for a five year project period when a series of annual conferences are proposed by a sponsoring organization. The applicant can submit applications on an annual basis for up to five years for a series of conferences or the applicant can submit one application for five years of proposed activities. A series is proposed as the exact same focus area within the scope of the program announcement conducted more than one time during the project period. An applicant can apply for funding for more than one different conference during the project period. Each application must focus on one topic area.

Conference support by CDC creates the appearance of CDC co-sponsorship, where there will be active participation by CDC in the development and approval of the conference agenda to make sure there are no subjects that would be contradictory to the goals of the Government or be an improper use of funds. CDC funds will be expended only for approved portions of the conference.

The mission of CDC is to promote health and improve the quality of life by preventing and controlling disease, injury, and disability.

This is occurring through the support of conferences and meetings in the areas of public health research, education, prevention research in program and policy development in managed care and also through prevention application. CDC is meeting its overall goal of dissemination and implementation of new cost-effective intervention strategies.

Measurable outcomes of the program will be in alignment with one or more of the following performance goal(s) for the National Center for Chronic Disease Prevention and Promotion: (1) Increase early detection of breast and cervical cancer by building nationwide programs in breast and cervical cancer prevention, especially among high-risk, underserved women. (2) Expand community-based breast and cervical cancer screening and diagnostic services to low income, medically underserved women. For women diagnosed with cancer or pre-cancer, ensure access to treatment services. (3) Reduce cigarette smoking among youth. (4) Support prevention research to develop sustainable and transferable community-based behavioral interventions. (5) Increase the capacity of state cardiovascular health programs to address prevention of cardiovascular disease at the community level. (6) Reduce death and disability due to heart disease and stroke and eliminate disparities. (7) Increase the capacity of state diabetes control programs to address the prevention of diabetes and its complications at the community level. (8) Improve the quality of state-based cancer registries. (9) Help states monitor the prevalence of major behavioral risks associated with premature morbidity and mortality in adults to improve the planning, implementation, and evaluation of health promotion and disease prevention programs. (10) Decrease levels of obesity, or reduce the rate of growth of obesity, in communities through nutrition and physical interventions. (See Attachment I for the specific topic areas as posted at the CDC Web site, at, www.cdc.gov, Click on “Funding” then “Grants and Cooperative Agreements”, and then locate the specific topic areas for this announcement.)

This announcement is only for non-research activities supported by CDC. If research is proposed, the application will not be reviewed and the application will be returned to the applicant. For the definition of research, please see the CDC Web site at the following Internet address: http://www.cdc.gov/od/ads/opspoll1.htm.

Activities:

In conducting activities to achieve the purpose of this program, the recipient will be responsible for the following activities:

• The conference organizer(s) may use CDC's name only in accurate public relations for the conference, meaning information that is true and factual. CDC involvement in the conference does not necessarily indicate support for the organizer's general policies, activities, products, or the content of speakers' presentations.

• All conferences co-sponsored under this announcement shall be held in facilities that are fully accessible to the public as required by the Americans with Disabilities Act Accessibility Guidelines (ADAAG) (Does not apply to international conferences). Accessibility under ADAAG addresses accommodations for persons with sensory impairments as well as persons with physical disabilities or mobility limitations.

• Manage all activities related to program content (e.g., objectives, topics, attendees, session design, workshops, special exhibits, speaker's fees, agenda composition, and printing). Many of these items may be developed in concert with assigned CDC project personnel.

• Provide draft copies of the agenda and proposed ancillary activities to CDC for approval. All but ten percent of the total funds awarded for the proposed conference will be initially restricted pending approval of a full, final agenda by CDC. The remaining 90 percent of funds will be released by letter to the grantee upon the approval of the final agenda. Because conference support by CDC creates the appearance of CDC co-sponsorship, there will be active participation by CDC in the development and approval of those portions of the agenda supported by CDC funds. CDC funds will not be expended for non-approved portions of meetings. In addition, CDC will reserve the right to approve or reject the content of the full agenda, press events, promotional materials (including press releases), speaker selection, and site selection. CDC reserves the right to terminate co-sponsorship if it does not concur with the final agenda.

• Determine and manage all promotional activities (e.g., title, logo, announcements, mailers, press, etc.). CDC must review and approve any materials with reference to CDC involvement or support.

• Manage all registration processes with participants, invitees, and registrants (e.g., travel, reservations, correspondence, conference materials and handouts, badges, registration procedures, etc.).

• Plan, negotiate, and manage conference site arrangements, including all audio-visual needs.

II. Award Information

Type of Award: Grant.

Fiscal Year Funds: FY 2005.

Approximate Total Funding: $2.0 million dollars (These amounts are estimates, and are subject to availability of funds).

Approximate Number of Awards: 40 to 50.

Approximate Average of Awards: It is expected that the average award range for a one year project period will be $25,000 to $75,000. It is expected that the average award range for a five year project period will be $25,000 to 100,000. (These amounts are for the first 12-month budget period).

Floor of Award Range: None.

Ceiling of Award Range: None.

Anticipated Award Date: Approximately sixty days before the date of the conference.

Budget Period Length: 12 month budget period for each cycle.

Project Period Lengths: One year project period and a five-year project period.

Throughout the project period, CDC's commitment to continuation of awards will be conditioned on the availability of funds, evidence of satisfactory progress by the recipient (as documented in required reports), and the determination that continued funding is in the best interest of the Federal Government.

III. Eligibility Information

III.1. Eligible Applicants

Applications may be submitted for CDC support by public and private nonprofit organizations and by governments and their agencies, such as:

• Public nonprofit organizations.

• Private nonprofit organizations.

• Faith-Based organizations.

• Universities and Colleges.

• Voluntary associations.

• Foundations and civic groups.

• Scientific or professional associations.

• Federally recognized Indian tribal governments.

• Indian tribes.

• Indian tribal organizations.

III.2. Cost Sharing or Matching

Matching funds are not required for this program.

III.3 Other

Programmatic Interest Areas:

To be eligible to apply, the applicant must: Propose a conference that matches only one topic area identified in the “Topic Areas of Programmatic Interest” as listed in Attachment I, as posted on the CDC Web site, at www.cdc.gov, Click on “Funding” then “Grants and Cooperative Agreements”. Each application should address one specific topic area for the 12 month budget. Applications for the five year project period should address the topic area of focus for years two through five. A separate application must be submitted to address the different topic areas of focus.

Use of Funds:

Funds may be used for direct cost expenditures: Salaries; speaker fees (for services rendered); rental of necessary conference-related equipment; registration fees; and transportation costs (not to exceed economy class fare) for non-Federal individuals.

Funds may be used for only those parts of the conference specifically supported by CDC or ATSDR as documented in the grant award.

CDC will accept and review applications with budgets greater than the ceiling of the award range.

Special Requirements:

• CDC Conference Support awards will be in two categories: Awards with a one year project period; and awards with a five year project period.

• Each year the applicant must meet the posted deadline dates in the Federal Register to be eligible for funding in FY 2006, 2007, 2008 and 2009.

• Late applications will be considered non-responsive. See section “IV.3. Submission Dates and Times” for more information on deadlines.

• Applicants who do not submit a Letter of Intent (LOI) will not be eligible to submit an application for review or funding.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1 (OMB Number 0937-0189). Application forms and instructions are available on the CDC Web site, at the following Internet address: www.cdc.gov/od/pgo/forminfo.htm. If you do not have access to the Internet, or if you have difficulty accessing the forms on-line, you may contact the CDC Procurement and Grants Office Technical Information Management Section (PGO-TIM) staff at: 770-488-2700. Application forms can be mailed to you.

IV.2. Content and Form of Submission

Letter of Intent (LOI):

A LOI is required for this Program Announcement. The LOI will not be evaluated or scored. Your letter of intent will be used to estimate the potential reviewer workload and to avoid conflicts of interest during the review. If you do not submit a LOI, you will not be allowed to submit an application.

Your LOI must be written in the following format:

• Maximum number of pages: Two to three typewritten pages.

• Font size: 12-point unreduced.

• Double spaced.

• Paper size: 8.5 by 11 inches.

• Page margin size: One inch.

• Printed only on one side of page.

• Written in plain English language, avoid jargon.

Your LOI must contain the following information:

• The name of the organization.

• Primary contact person's name.

• Mailing address.

• Telephone number and, if available, fax and e-mail.

• Title of the proposed conference—include the term “conference,” “symposium,” or similar designation.

• Date(s) of conference—inclusive dates of the conference. A series would be the exact same conference focus area conducted more than one time.

• Location of city, state, and physical facilities required for the conduct of the meeting.

• Project topics (no more than one). See attachment II.

• Total conference cost and total requested from CDC (must be less than 100 percent).

• Intended audience, approximate number, and profession of persons expected to attend.

• Justification for the conference

Application: You must submit a project narrative with your application forms. The narrative must be submitted in the following format:

• Maximum number of pages: 12 pages. If your narrative exceeds the page limit, only the first pages which are within the page limit will be reviewed.

• Font size: 12 point unreduced.

• Double spaced.

• Paper size: 8.5 by 11 inches.

• Page margin size: One inch.

• Printed only on one side of page.

• Clearly numbered pages.

• A complete index to the application and appendices.

• Held together only by rubber bands or metal clips; not bound in any other way.

Your narrative should address activities to be conducted over the entire project period:

• A brief background of the organization—include the organizational history, purpose, and previous experience related to the proposed conference topic. Provide information on your last five conferences that addressing when and where the conference was held.

• A clear statement of the need for and purpose of the conference. This statement should also describe any problems the conference will address or seek to solve, and the action items or resolutions it may stimulate.

• An elaboration on the conference objectives and target audience. A list should be included of the principal areas or topics to be addressed. If a series of conferences are proposed for a five year project period, the applicant must provide information on proposed conferences for years two through five.

• A proposed or final agenda must be included.

• A clear description of the evaluation plan and how it will assess the accomplishments of the conference objectives. A sample of the evaluation instrument that will be used must be included and a step-by-step schedule and detailed operation plan of major conference planning activities necessary to attain specified objectives.

• Budget plan and justification—A detailed and clearly justified budget narrative that is consistent with the purpose, objectives, and operation plan of the conference for FY 2005. Applications that are part of the five year project period must submit a detailed budget and justification for year one and a categorical budget consistent with budget form 424a for years two through five that describes the financial resources needed over the five year project period. It should include the share requested from this grant as well as those funds from other sources, including organizations, institutions, conference income, and/or registration fees. (The 12 page limit does not include the budget.)

Additional information may be included in the application appendices. The appendices will not be counted toward the narrative page limit. This additional information includes:

• Biographical sketches are required for the individuals responsible for planning and implementing the conference. Experience and training related to conference planning and implementation as it relates to the proposed topic should be noted.

• Letters of endorsement or support—Letters of endorsement or support for the sponsoring organization and its capability to perform the proposed conference activity.

You are required to have a Dun and Bradstreet Data Universal Numbering System (DUNS) number to apply for a grant or cooperative agreement from the Federal government. The DUNS number is a nine-digit identification number, which uniquely identifies business entities. Obtaining a DUNS number is easy and there is no charge. To obtain a DUNS number, access http://www.dunandbradstreet.com or call 1-866-705-5711.

For more information, see the CDC Web site at: http://www.cdc.gov/od/pgo/funding/pubcommt.htm. Please include your DUNS number in your application cover letter.

Additional requirements that may require you to submit additional documentation with your application are listed in section “VI.2. Administrative and National Policy Requirements.”

IV.3. Submission Dates and Times

LOI Deadline Date: Cycle A: November 22, 2004. Cycle B: February 3, 2005.

CDC requires that you submit a LOI if you intend to apply for this program. Although the LOI will not be evaluated, and does not enter into review of your subsequent application, failure to submit a timely LOI will preclude you from submitting an application.

Application Deadline Date: Earliest Possible Award Dates: Cycle A: December 22, 2004-April, 2005. Cycle B: April 6, 2005-August, 2005.

Explanation of Deadlines: LOIs and Applications must be received in the CDC Procurement and Grants Office by 4 p.m. Eastern Time on the deadline date. If you submit your LOI or application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on LOI and application content, submission address, and deadline. It supersedes information provided in the application instructions. If your submission does not meet the deadline above, it will not be eligible for review, and will be discarded. You will be notified that you did not meet the submission requirements.

CDC will not notify you upon receipt of your submission. If you have a question about the receipt of your LOI or application, first contact your courier. If you still have a question, contact the PGO-TIM staff at: 770-488-2700. Before calling, please wait two to three days after the submission deadline. This will allow time for submissions to be processed and logged.

IV.4. Intergovernmental Review of Applications

Your application is subject to Intergovernmental Review of Federal Programs, as governed by Executive Order (EO) 12372. This order sets up a system for state and local governmental review of proposed Federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• Funds may not be used for the purchase of equipment; payments of honoraria (for conferring distinction); alterations or renovations; organizational dues; support entertainment or personal expenses; food or snack breaks; cost of travel and payment of a Federal employee or per diem or expenses for local participants (other than local mileage). Travel for CDC employees will be supported by CDC. Travel for other Federal employees will be supported by the employees' Federal agency.

• Funds may not be used for reimbursement of indirect costs.

• CDC will not fund 100 percent of any conference proposed under this announcement. Part of the cost of the proposed conference must be supported with funds other than Federal funds.

• CDC will not fund a conference after it has taken place.

• Federal funds may not be used to fund novelty items or souvenirs.

Guidance for completing your budget can be found on the CDC Web site, at the following Internet address: http://www.cdc.gov/od/pgo/funding/budgetguide.htm.

IV.6. Other Submission Requirements

LOI Submission Address: Submit the original and two hard copies of your LOI by express mail or delivery service to: Technical Information Management Section, PA 05031, Procurement and Grants Office, Centers for Disease Control and Prevention, 2920 Brandywine Road, Room 3000, Atlanta, Georgia 30341-4146.

LOIs may not be submitted electronically at this time.

Application Submission Address: Submit the original and two hard copies of application by express mail or delivery service to: Technical Information Management Section, PA 05031, Procurement and Grants Office, Centers for Disease Control and Prevention, 2920 Brandywine Road, Room 3000, Atlanta, Georgia 30341-4146.

Applications may not be submitted electronically at this time.

If your conference dates fall between May 1, 2005 to April 30, 2006, you should apply under Cycle A under this announcement for year one budget period. If your conference dates fall between August 1, 2005 to September 30, 2006, you should apply under Cycle B under this announcement for year one budget period.

If your conference dates fall between May 1, 2006 to April 30, 2007, you should apply under Cycle A under this announcement for year two budget period. If your conference dates fall between August 1, 2006 to September 30, 2007, you should apply under Cycle B under this announcement for year two budget period.

If your conference dates fall between May 1, 2007 to April 30, 2008, you should apply under Cycle A under this announcement for year three budget period. If your conference dates fall between August 1, 2007 to September 30, 2008, you should apply under Cycle B under this announcement for year three budget period.

If your conference dates fall between May 1, 2008 to April 30, 2009, you should apply under Cycle A under this announcement for year four budget period. If your conference dates fall between August 1, 2008 to September 30, 2009, you should apply under Cycle B under this announcement for year four budget period.

If your conference dates fall between May 1, 2009 to April 30, 2010, you should apply under Cycle A under this announcement for year five budget period. If your conference dates fall between August 1, 2009 to September 30, 2010, you should apply under Cycle B under this announcement for year five budget period.

If your conference dates fall between October 1, 2004 and April 30, 2005, you should have applied under the previous Announcement 04004, and your LOI will be considered non-responsive to Program Announcement 05031.

V. Application Review Information

V.1. Criteria

Applicants are required to provide measures of effectiveness that will demonstrate the accomplishment of the various identified objectives of the grant. Measures of effectiveness must relate to the performance goals stated in the “Purpose” section of this announcement. Measures must be objective and quantitative, and must measure the intended outcome. These measures of effectiveness must be submitted with the application and will be an element of evaluation.

Each application will be evaluated individually against the following criteria by an independent review group appointed by CDC. Each application will be evaluated based on the following criteria:

1. Proposed Program and Technical Approach (25 Points)

The applicant's description of the proposed conference as it relates to specific non-Federal conferences in the areas of health promotion and disease prevention information/education programs (except substance abuse), including the public health need of the proposed conference and the degree to which the conference can be expected to influence public health practices. Evaluation will also be based on the extent of the applicant's collaboration with other organizations serving the intended audience. The applicant's description of conference objectives in terms of quality, specificity, and the feasibility of the conference based on the operational plan will also be evaluated.

2. Conference Objectives (25 Points)

a. The overall quality, reasonableness, feasibility, and logic of the designed conference objectives, including the overall work plan and timetable are accomplished.

b. The likelihood of accomplishing conference objectives as they relate to disease prevention and health promotion goals, and the feasibility of the project in terms of the operational plan.

3. The Qualifications of Program Personnel (20 Points)

Evaluation will be based on the extent to which the application has described.

a. The extent to which the application provides evidence of the qualifications, experience, and commitment of the principal staff person, and his/her ability to devote adequate time and effort to provide effective leadership.

b. The extent to which the application provides evidence of the competence of associate staff persons, discussion leaders, speakers, and presenters to accomplish conference objectives.

c. The extent to which the application demonstrates the knowledge of nationwide and educational efforts currently underway which may affect, and be affected by, the proposed conference.

4. Evaluation Methods (20 Points)

Evaluation instrument(s) for the conference should adequately assess increased knowledge, attitudes, and behaviors of the target audience.

5. Applicant's Capability (10 Points)

a. The applicant's capability includes the adequacy of the applicant's resources (additional sources of funding, organization's strengths, staff time, proposed physical facilities, etc.) available for conducting conference activities.

b. The extent to which the applicant demonstrates a history (at least three years) of managing conferences.

6. Budget Justification and Adequacy of Facilities (Not Scored)

The proposed budget will be evaluated on the basis of its reasonableness, concise and clear justification, and consistent with the intended use of grant funds. The application will also be reviewed as to the adequacy of existing or proposed facilities and resources for conducting conference activities.

V.2. Review and Selection Process

Applications will be reviewed for completeness by the Procurement and Grants Office (PGO) staff and for responsiveness by the National Center for Chronic Disease Prevention. Incomplete applications and applications that are non-responsive to the eligibility criteria will not advance through the review process. Applicants will be notified that their application did not meet submission requirements.

An objective review panel will evaluate complete and responsive applications according to the criteria listed in the “V.1. Criteria” section above presented by three reviewers from CDC employees that are all outside the funding cognizant program office.

Applications will be funded in order by score and rank determined by the review panel.

Applications received in subsequent budget periods that are part of a series will be technically reviewed by an assigned CDC project officer providing their application is consistent with the scope of this program announcement and their originally approved application. Any application proposed in a series where the scope of the application is not consistent with their original application will be reviewed by an objective review panel according to the evaluation criteria.

V.3. Anticipated Announcement and Award Dates

The anticipated announcement date is November 5, 2004 and the award dates will be 30-60 days before the conferences begin.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-7 Executive Order 12372.

• AR-9 Paperwork Reduction Act Requirements.

• AR-10 Smoke-Free Workplace Requirements.

• AR-11 Healthy People 2010.

• AR-12 Lobbying Restrictions.

• AR-13 Prohibition on Use of CDC Funds for Certain Gun Control Activities.

• AR-15 Proof of Non-Profit Status.

• AR-20 Conference Support.

• AR-23 State Grantees and Faith-Based Organizations.

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report, due no later than 90 days after the end of the budget period/project.

These reports must be mailed to the Grants Management or Contract Specialist listed in the “Agency Contacts” section of this announcement.

VII. Agency Contacts

We encourage inquiries concerning this announcement. For general questions, contact: Technical Information Management Section, CDC Procurement and Grants Office, 2920 Brandywine Road, Atlanta, GA 30341, Telephone: 770-488-2700.

For program technical assistance, contact: Vivian Bryant, Program Analyst, CDC National Center for Chronic Disease Prevention and Health Promotion, 4770 Buford Hwy NE., Atlanta, GA 30341-3717, Telephone: 770-488-6292, E-mail: vbryant@cdc.gov.

For financial, grant management, or budget assistance, contact: Rick Jaeger, Grants Management Specialist, CDC Procurement and Grants Office, 2920 Brandywine Road, Atlanta, GA 30341, Telephone: 770-488-2727, E-mail: rjaeger@cdc.gov.

VIII. Other Information

This and other CDC funding opportunity announcements can be found on the CDC Web site, Internet address: http://www.cdc.gov. Click on “Funding” then “Grants and Cooperative Agreements.”

Dated: October 28, 2004.
William P. Nichols,
Acting Director, Procurement and Grants Office, Centers for Disease Control and Prevention.

[FR Doc. 04-24513 Filed 11-2-04; 8:45 am]

BILLING CODE 4163-18-P